COMMISSION ON CIVIL RIGHTS

Notice of Public Meetings of the Delaware Advisory Committee to the U.S. Commission on Civil Rights

AGENCY: Commission on Civil Rights.

ACTION: Announcement of meetings.

SUMMARY: Notice is hereby given, pursuant to the provisions of the rules and regulations of the U.S. Commission on Civil Rights (Commission), and the Federal Advisory Committee Act (FACA), that the Delaware Advisory Committee to the Commission will hold virtual meetings on the first Wednesday of each month beginning at 1:00 p.m. and ending at approximately 2:00 p.m. ET (may end sooner than 2:00 p.m. if business concludes) as follows: May 3, June 7, July 3, August 2 and September 6, 2023. The purpose of the meetings is to continue discussions on reviewing and voting to approve the Committee's report on COVID 19 health disparities and people of color in Delaware.

DATES: 1st Wednesday of the month at 1:00 p.m. ET: 5/3/23, 6/7/23, 7/5/23, 8/2/23, and 9/6/23.

Meeting Link (Audio/Visual): https://tinyurl.com/2sstbf6v; password: USCCR-DE.

Join by Phone (Audio Only): 1-833-435-1820 USA Toll-Free; Meeting ID: 160 832 3278#.

FOR FURTHER INFORMATION CONTACT: Ivy L. Davis, at ero@usccr.gov or by phone at 1-202-530-8468.

SUPPLEMENTARY INFORMATION: Members of the public may attend these Committee meetings through the registration link above. Any interested member of the public may listen to the meeting. An open comment period will be provided to allow members of the public to make brief statements as time allows. Per the Federal Advisory Committee Act, public minutes of the meetings will include a list of persons who attend the meetings. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email Evelyn Bohor, ebohor@usccr.gov, at least 10 business days prior to the meeting.

Members of the public are entitled to submit written comments; the comments must be received in the regional office within 30 days following each meeting. Written comments may be emailed to the attention of Ivy Davis at ero@usccr.gov. Persons who desire additional information may contact Evelyn Bohor at ebohor@usccr.gov.

Records generated from this meeting may be inspected and reproduced at the Regional Programs Coordination Unit Office, as they become available, both before and after the meeting. Records of the meetings will be available via www.facadatabase.gov under the Commission on Civil Rights, Delaware Advisory Committee link. Persons interested in the work of this Committee are directed to the Commission's website, http://www.usccr.gov, or may contact Evelyn Bohor at ebohor@usccr.gov.

Agenda

I. Welcome and Roll Call

II. Project Planning, Report Discussion, and Potential Report Vote

III. Other Business

IV. Next Planning Meeting

V. Public Comments

VI. Adjourn

Dated: April 12, 2023.
David Mussatt,
Supervisory Chief, Regional Programs Unit.

[FR Doc. 2023-08036 Filed 4-14-23; 8:45 am]

BILLING CODE P